DEPARTMENT OF THE INTERIOR

Fish and Wildlife Service

[FWS-R4-R-2008-N0019; 40136-1265-0000-S3]

Logan Cave National Wildlife Refuge

AGENCY: Fish and Wildlife Service, Interior.

ACTION: Notice of availability of the Draft Comprehensive Conservation Plan and Environmental Assessment.

SUMMARY: The Fish and Wildlife Service announces that the Draft Comprehensive Conservation Plan and Environmental Assessment (Draft CCP/EA) for Logan Cave National Wildlife Refuge in Benton County, Arkansas, is available for review and comment. This document was prepared pursuant to the National Wildlife Refuge System Administration Act of 1966, as amended by the National Wildlife Refuge System Improvement Act of 1997, and the National Environmental Policy Act of 1969. The Draft CCP/EA describes the Service's proposal for management of the refuge for 15 years.

DATES: Written comments must be received at the address in the ADDRESSES section no later than February 25, 2008.

ADDRESSES: To provide written comments or to obtain a copy of the Draft CCP/EA, please write to: Ms. Tina Chouinard, Refuge Planner, Hatchie National Wildlife Refuge, 6772 Highway 76 South, Stanton, TN 38069. The Draft CCP/EA is available on compact diskette or hard copy. It also may be accessed and downloaded from the Service's Internet site: http://southeast.fws.gov/planning.

FOR FURTHER INFORMATION CONTACT: Tina Chouinard; Telephone: 318/305-0643.

SUPPLEMENTARY INFORMATION: Public Availability of Comments: Before including your address, phone number, e-mail address, or other personal identifying information in your comment, you should be aware that your entire comment, including your personal identifying information, may be made publicly available at any time. While you can ask us in your comment to withhold your personal identifying information from public review, we cannot guarantee that we will be able to do so.

Background: Logan Cave National Wildlife Refuge was established in 1989 under the Endangered Species Act of 1973. This 123-acre Ozark Mountain refuge, which includes a limestone-solution cave, is located 20 miles west of Fayetteville, Arkansas, and approximately 2 miles north of U.S. Highway 412. The ecology of Logan Cave has been described as the highest quality cave habitat in the entire Ozark region. A spring-fed stream, with an average water flow of 5 million gallons/day, extends the entire length of the cave. The primary objectives of the refuge are to properly administer, conserve, and develop the tract for protection of a unique cave ecosystem that provides essential habitat for the endangered gray bat, the endangered Ozark cave crayfish, the threatened Ozark cavefish, and other significant cave-dwelling wildlife species.

The Service developed three alternatives for managing the refuge and chose Alternative 3 as the proposed alternative.

Under Alternative 1, no refuge management or resource protection would occur. Fish and wildlife populations would not be monitored, habitats would not be managed or monitored, no land protection would occur, and no law enforcement activities would be performed. The Service would probably enter into management agreements with the Arkansas State Game and Fish Commission and/or The Nature Conservancy.

Under Alternative 2, there would be no change from current management of this un-staffed refuge. Under this alternative, 123 acres of refuge lands would be protected and maintained for resident wildlife, migratory non-game birds, and threatened and endangered species. Refuge management programs would continue to be developed and implemented with little baseline biological information. All refuge management activities would be directed toward achieving the refuge's primary purposes, which are to properly administer, conserve, and develop the 123-acre-area for protection of a unique cave ecosystem that provides essential habitat for the endangered gray bat, endangered cave crayfish, the threatened Ozark cavefish, as well as other significant cave-dwelling wildlife species. Active habitat and wildlife management would continue to be limited to protection of the cave entrances and limited access to surface and subsurface habitats. Little to no environmental education and wildlife interpretation would occur. No improvements would be made to the exterior for wildlife observation or wildlife photography. Under this alternative, the refuge would not seek out partnerships with adjacent landowners or with other Federal and State agencies to contribute to the overall natural resource conservation effort in the area.

Under Alternative 3, the proposed alternative, all refuge management actions would be directed toward achieving the refuge's primary purposes, which are to properly administer, conserve, and develop the 123-acre-area for protection of a unique cave ecosystem that provides essential habitat for the endangered gray bat, the endangered cave crayfish, the threatened Ozark cavefish, and other significant cave-dwelling wildlife species, while contributing to other national, regional and State goals to protect and restore karst habitats and species. Wildlife and plant censuses and inventory activities would be initiated and maintained to obtain the biological information needed to continue current refuge management programs and implement crucial management programs on and off the refuge. Active habitat management would be implemented to maintain and enhance water quality and quantity within the cave system, the recharge zone (groundwater recharge areas), and waterways within the bat foraging areas through best management practices, easements, and partnerships with private landowners and other Federal and State agencies. Continuous groundwater quality monitoring is crucial to the existence of the aquatic species utilizing the cave stream and groundwater corridors.

Wildlife-dependent recreation activities, such as wildlife observation, wildlife photography, and environmental education and interpretation, would be provided. Utilizing various partners, the refuge would develop a small environmental education program, focusing on karst environments. The refuge would develop a community-based volunteer program by establishing a Cave Steward program. Volunteers would be educated on management issues and utilized to help complete wildlife and plant surveys, maintenance projects, and public recreation and education programs.

Authority: This notice is published under the authority of the National Wildlife Refuge System Improvement Act of 1997, Public Law 105-57.

Dated: August 16, 2007.
Cynthia K. Dohner,
Acting Regional Director.

[FR Doc. E8-1279 Filed 1-24-08; 8:45 am]

BILLING CODE 4310-55-P